DEPARTMENT OF COMMERCE

National Oceanic and Atmospheric Administration

50 CFR Part 622

[Docket No. 1206013412-2517-02]

RTID 0648-XD065

Fisheries of the Caribbean, Gulf of Mexico, and South Atlantic; 2023 Commercial Closure for Gulf of Mexico Greater Amberjack

AGENCY: National Marine Fisheries Service (NMFS), National Oceanic and Atmospheric Administration (NOAA), Commerce.

ACTION: Temporary rule; closure.

SUMMARY: NMFS implements an accountability measure for commercial greater amberjack in the Gulf of Mexico (Gulf) reef fish fishery for the 2023 fishing year through this temporary rule. NMFS has determined that Gulf greater amberjack landings have exceeded the commercial annual catch target (ACT). Therefore, the commercial fishing season for greater amberjack in the Gulf exclusive economic zone (EEZ) will close on June 18, 2023, and the sector will remain closed until the start of the next commercial fishing season on January 1, 2024. This closure is necessary to protect the Gulf greater amberjack resource.

DATES: This rule is effective 12:01 a.m., local time, June 18, 2023, until 12:01 a.m., local time, January 1, 2024.

FOR FURTHER INFORMATION CONTACT: Kelli O'Donnell, NMFS Southeast Regional Office, telephone: 727-824-5305, or email: Kelli.ODonnell@noaa.gov.

SUPPLEMENTARY INFORMATION: NMFS manages the reef fish fishery of the Gulf, which includes greater amberjack, under the Fishery Management Plan for the Reef Fish Resources of the Gulf (FMP). The Gulf of Mexico Fishery Management Council (Council) prepared the FMP and NMFS implements the FMP under the authority of the Magnuson-Stevens Fishery Conservation and Management Act (Magnuson-Stevens Act) by regulations at 50 CFR part 622. All greater amberjack weights discussed in this temporary rule are in round weight.

On June 15, 2023, NMFS published the final rule implementing Amendment 54 to the FMP (88 FR 39193). Among other measures, that final rule decreased the commercial annual catch limit (ACL) and quota (commercial ACT) for Gulf greater amberjack. Effective on the date of publication of the Amendment 54 final rule, the commercial greater amberjack ACL and ACT for the 2023 fishing year are 101,000 lb (45,813 kg) and 93,930 lb (42,606 kg), respectively (50 CFR 622.41(a)(1)(iii) and 622.39(a)(1)(v)).

Under 50 CFR 622.41(a)(1)(i), NMFS is required to close the greater amberjack commercial sector when the commercial ACT is reached, or is projected to be reached, by filing a notification to that effect with the Office of the Federal Register. NMFS has determined that the commercial ACT of 93,930 lb (42,606 kg) has been exceeded. Accordingly, NMFS closes commercial harvest of greater amberjack from the Gulf EEZ effective 12:01 a.m., local time, June 18, 2023, until 12:01 a.m., local time, January 1, 2024.

During the commercial closure, the sale or purchase of greater amberjack taken from the EEZ is prohibited. The prohibition on sale or purchase does not apply to the sale or purchase of greater amberjack that were harvested, landed ashore, and sold prior to 12:01 a.m., local time, June 18, 2023, and were held in cold storage by a dealer or processor. The commercial sector for greater amberjack will re-open on January 1, 2024, the beginning of the 2024 greater amberjack commercial fishing season.

During the commercial closure, the bag and possession limits specified in 50 CFR 622.38(b)(1) apply to all harvest or possession of greater amberjack in or from the Gulf EEZ. However, for the current 2022-2023 recreational fishing year of August 1, 2022, through July 31, 2023, the recreational fishing season is closed for the remainder of the current fishing year, or through July 31, 2023. Therefore, through July 31, 2023, the bag and possession limits for greater amberjack in or from the Gulf EEZ are zero. The recreational season will reopen on August 1, 2023, the start of the next recreational fishing year.

Classification

NMFS issues this action pursuant to section 305(d) of the Magnuson-Stevens Act. This action is required by 50 CFR 622.41(a)(1), which was issued pursuant to section 304(b) of the Magnuson-Stevens Act, and is exempt from review under Executive Order 12866.

Pursuant to 5 U.S.C. 553(b)(B), there is good cause to waive prior notice and an opportunity for public comment on this action, as notice and comment is unnecessary and contrary to the public interest. Such procedures are unnecessary because the regulations associated with the closure of the greater amberjack commercial sector 50 CFR 622.41(a)(1) have already been subject to notice and public comment, and all that remains is to notify the public of the closure. Prior notice and opportunity for public comment are contrary to the public interest because there is a need to immediately implement this action to protect the greater amberjack stock. Prior notice and opportunity for public comment would require time and could result in a harvest well in excess of the commercial ACL. NMFS is required to reduce the 2024 ACT and ACL by the amount of any overage of the 2023 commercial ACL, which would reduce the 2024 fishing season.

For the aforementioned reasons, the AA also finds good cause to waive the 30-day delay in the effectiveness of this action under 5 U.S.C. 553(d)(3).

Authority: 16 U.S.C. 1801 et seq.

Dated: June 15, 2023.
Jennifer M. Wallace,
Acting Director, Office of Sustainable Fisheries, National Marine Fisheries Service.

[FR Doc. 2023-13189 Filed 6-15-23; 4:15 pm]

BILLING CODE 3510-22-P